DEPARTMENT OF COMMERCE

National Oceanic and Atmospheric Administration

RIN 0648-XC022

Fisheries of the Caribbean, Gulf of Mexico, and South Atlantic; Reef Fish Fishery of the Gulf of Mexico; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Florida Sea Grant. If granted, the EFP would exempt Florida Sea Grant agents from regulations at § 622.41(m)(3), requiring the use of venting tools when releasing regulatory discarded fish back to the water from July 1, 2012, through July 1, 2013. This study, to be conducted in the exclusive economic zone (EEZ) of the Gulf of Mexico (Gulf) off Florida, is intended to better document the efficacy and practicality of various recompression gear methods.

DATES: Comments must be received no later than 5 p.m., eastern time, on June 28, 2012.

ADDRESSES: You may submit comments on the application by any of the following methods:

• Email: 0648-XC022.FLSeagrant@noaa.gov. Include in the subject line of the email comment the following document identifier: “FL Sea Grant EFP”.

• Mail: Rich Malinowski, Southeast Regional Office, NMFS, 263 13th Avenue South, St. Petersburg, FL 33701.

The application and related documents are available for review upon written request to any of the above addresses.

FOR FURTHER INFORMATION CONTACT: Rich Malinowski, 727-824-5305; email: rich.malinowski@noaa.gov.

SUPPLEMENTARY INFORMATION: The EFP is requested under the authority of the Magnuson-Stevens Fishery Conservation and Management Act (16 U.S.C. 1801 et seq.), and regulations at 50 CFR 600.745(b) concerning exempted fishing.

The described research is part of a new research program by Florida Sea Grant. The research is intended to involve recreational fishermen in the collection of fundamental biological information of Gulf reef fish. The proposed sampling for scientific research involves activities that could otherwise be prohibited by regulations at 50 CFR part 622, as they pertain to reef fish managed by the Gulf of Mexico Fishery Management Council (Council). The applicant requires authorization through the EFP to not vent these Council-managed species using recompression gears as part of the normal fishing activities of the recreational sector of the Gulf reef fish fishery. Florida Sea Grant is requesting that selected participants use various types of recompression gears instead of venting tools as currently required by regulation. The goal of the research is to provide evaluation of the various recompression gears for industry use.

NMFS finds this application warrants further consideration. Possible conditions the agency may impose on this permit, if it is indeed granted, include but are not limited to, a prohibition of conducting research within marine protected areas, marine sanctuaries, or special management zones, without additional authorization. A report on the research would be due at the end of the collection period, to be submitted to NMFS and reviewed by the Council.

A final decision on issuance of the EFP will depend on NMFS's review of public comments received on the application, consultations with the affected states, the Council, and the U.S. Coast Guard, as well as a determination that it is consistent with all applicable laws.

Authority: 16 U.S.C. 1801 et seq.

Dated: May 22, 2012.
Carrie Selberg,
Acting Director, Office of Sustainable Fisheries, National Marine Fisheries Service.

[FR Doc. 2012-12961 Filed 5-25-12; 8:45 am]

BILLING CODE 3510-22-P